DEPARTMENT OF TRANSPORTATION

Federal Aviation Administration

Proposed Advisory Circular 25.1353-1, “Electrical Equipment and Installations”

AGENCY: Federal Aviation Administration (FAA), DOT.

ACTION: Notice of availability and request for comments.

SUMMARY: This notice announces the availability of and requests comments on a proposed advisory circular (AC) that sets forth acceptable methods of compliance with § 25.1353 concerning electrical wiring. This proposed AC complements revisions to the airworthiness standards that are being proposed by a separate notice. This notice is necessary to give all interested persons an opportunity to present their views on the proposed AC.

DATES: Comments must be received on or before December 5, 2005.

ADDRESSES: Send all comments on the proposed AC to: Federal Aviation Administration, Attention: Stephen Slotte, ANM-111, Airplane & Flight Crew Interface, Federal Aviation Administration, 1601 Lind Avenue SW., Renton, WA 98055-4056; telephone (425) 227-2315; facsimile (425) 227-1320, e-mail steve.slotte@faa.gov. Comments may be inspected at the above address between 7:30 a.m. and 4 p.m. weekdays, except Federal holidays.

FOR FURTHER INFORMATION CONTACT: Annette Kovite, Transport Standards Staff, at the address above, telephone (425) 227-1262.

SUPPLEMENTARY INFORMATION:

Comments Invited

Interested persons are invited to comment on the proposed AC by submitting such written data, views, or arguments as they may desire. Commenters should identify AC 25.1353-1 and submit comments, in duplicate, to the address specified above. All communications received on or before the closing date for comments will be considered by the FAA before issuing the final AC. The proposed AC can be found and downloaded from the Internet at http://www.airweb.faa.gov/rgl under “Draft Advisory Circulars.” A paper copy of the proposed AC may be obtained by contacting the person named above under the caption FOR FURTHER INFORMATION CONTACT.

Discussion

This proposed AC provides guidance for demonstrating compliance with the transport category airplane certification requirements of § 25.1353 Electrical equipment and installations. The guidance provided in this proposed AC is directed to airplane manufacturers, modifiers, foreign regulatory authorities, FAA transport airplane type certification engineers, and designees. It is one means, but not the only means, of complying with the part 25 revisions proposed in Notice No. 05-08, entitled “Enhanced Airworthiness Program for Airplane Systems/Fuel Tank Safety (EAPAS/FTS),” published in this same edition of the Federal Register. Issuance of AC 25.1353-1 is contingent on final adoption of the proposed revisions to part 25.

Issued in Washington, DC, on September 22, 2005.
John J. Hickey,
Director, Aircraft Certification Service.

[FR Doc. 05-19413 Filed 10-5-05; 8:45 am]

BILLING CODE 4910-13-P